DEPARTMENT OF JUSTICE

Antitrust Division

Notice Pursuant to the National Cooperative Research and Production Act of 1993—the Asymmetrical Digital Subscriber Line Forum

Notice is hereby given that, on October 13, 1999, pursuant to Section 6(a) of the National Cooperative Research and Production Act of 1993, 15 U.S.C. 4301 et seq. (“the Act”), the Asymmetrical Digital Subscriber Line Forum (“ADSL”) has filed written notifications simultaneously with the Attorney General and the Federal Trade Commission disclosing changes in its membership status. The notifications were filed for the purpose of extending the Act's provisions limiting the recovery of antitrust plaintiffs to actual damages under specified circumstances. Specifically, Accelerated Networks, Inc., Westlake Village, CA; Arescom, Fremont, CA; AudioCodes, Yehud, Israel; Avail Networks, Ann Arbor, MI; Conklin Corporation, Norcross, GA; CS Telecom, Fontenay-aux-Rosex cedex, France; Elicon Technology, Montreal, Quebec, Canada; Fantastic Corporation, Baar, Switzerland; Flashcom, Westminster, CA; General Bandwidth, Austin, TX; Hellenic Telecommunications Organization, Marroussi, Greece; i-Beam Broadcasting, Sunnyvale, CA; Integral Access, Inc., Chelmsford, MA; Kenetec, Chesire, CT; Lucent Technologies, No. Andover, MA; NightFire Software, Berkeley, CA; Santera Systems, Gunter, TX; Sphere Communications, Lake Bluff, IL; Surf Communications Solutions, D.N. Misgav, Israel; Telia AB, Stockholm, Sweden; Telmax Communications, Fremont, CA; Turk Telecom, Ankara, Turkey; and Tycho Networks, Santa Cruz, CA have been added as parties to this venture. Also, General Datacom, Middlebury, CT has been dropped as a party to this venture.

No other changes have been made in either the membership or planned activity of the group research project. Membership in this group research project remains open, and ADSL intends to file additional written notifications disclosing all changes in membership.

On May 15, 1995, ADSL filed its original notification pursuant to Section 6(a) of the Act. The Department of Justice published a notice in the Federal Register pursuant to Section 6(b) of the Act on July 25, 1995 (60 FR 338058).

The last notification was filed with the Department on July 7, 1999. A notice for this filing has not yet been published in the Federal Register.

Constance K. Robinson,
Director of Operations, Antitrust Division.

[FR Doc. 00-28181 Filed 11-1-00; 8:45 am]

BILLING CODE 4410-11-M